OFFICE OF SCIENCE AND TECHNOLOGY POLICY

National Nanotechnology Coordination Office; Bridging NanoEHS Research Efforts: A Joint US-EU Workshop: Public Meeting

AGENCY: National Nanotechnology Coordination Office, STPO.

ACTION: Notice of public meeting.

SUMMARY: The National Nanotechnology Coordination Office (NNCO), on behalf of the Nanoscale Science, Engineering, and Technology (NSET) Subcommittee of the Committee on Technology, National Science and Technology Council (NSTC), will hold a workshop on March 10-11, 2011, to provide an open forum and engage in an active scientific discussion about environmental health and safety questions for nanomaterials and nanotechnology-enabled products, to encourage joint US-EU programs of work that would leverage resources, and to establish communities of research practice, including identification of key points of contact/interest groups/themes between key US and EU researchers for near-term and future collaborations. This request will be active from February 10, 2011, to March 10, 2011.

DATES: The public meeting will be held on Thursday, March 10, 2011 from 8:30 a.m. until 5:30 p.m. and on Wednesday, March 11, 2011 from 8:30 a.m. until 4 p.m.

ADDRESSES: The first day of the public meeting will be held at The George Washington University, Elliott School of International Affairs, 1957 E Street, NW., Washington, DC 20052 (Metro Stops: Farragut West or Foggy Bottom). For directions, please see http://www.gwu.edu. The second day will be held at American Association for the Advancement of Science (AAAS), 1200 New York Avenue, Washington, DC 20005 (Metro Stops: Metro Center or McPherson Square). For directions, please see http://www.aaas.org.

Registration: Due to space limitations, pre-registration for the workshop is required. People interested in attending the workshop should register online at http://www.nano.gov/html/meetings/us-eu/register.html. Written notices of participation by e-mail should be sent to useu@nnco.nano.gov. Written notices may be mailed to the US-EU Workshop, c/o NNCO, 4201 Wilson Blvd., Stafford II, Suite 405, Arlington, VA 22230. Registration is on a first-come, first-served basis until the location space limits are reached. Otherwise registration will close on March 9, 2010 at 4 p.m. EDT.

Those interested in presenting 3-5 minutes of public comments at the meeting should also register at http://www.nano.gov/html/meetings/us-eu/register.html. Written or electronic comments should be submitted by email to useu@nnco.nano.gov until April 11, 2011. Information about the meeting, including the agenda, is posted at http://www.nano.gov.

Meeting Accommodations: Individuals requiring special accommodation to access this public meeting should contact Diana Petreski, telephone (703) 292-8626 at least ten business days prior to the meeting so that appropriate arrangements can be made.

FOR FURTHER INFORMATION CONTACT: For information regarding this Notice, please contact Diana Petreski, telephone (703) 292-8626, National Nanotechnology Coordination Office. E-mail: useu@nnco.nano.gov.

Ted Wackler,
Deputy Chief of Staff.

[FR Doc. 2011-3365 Filed 2-14-11; 8:45 am]

BILLING CODE 3170-W0-P